ENVIRONMENTAL PROTECTION AGENCY

40 CFR Part 180

[EPA-HQ-OPP-2017-0418; FRL-6704-03-OCSPP]

RIN 2070-ZA16

Pesticide Tolerances; Implementing Registration Review Decisions for Certain Pesticides; Maleic Hydrazide, et al.

AGENCY: Environmental Protection Agency (EPA).

ACTION: Final rule.

SUMMARY: The Environmental Protection Agency (EPA or Agency) is finalizing several pesticide tolerance actions under the Federal Food, Drug, and Cosmetic Act (FFDCA) that the Agency previously determined were necessary or appropriate during the registration review conducted under the Federal Insecticide, Fungicide, and Rodenticide Act (FIFRA). During registration review, EPA reviews all aspects of a pesticide case, including existing tolerances, to ensure that the pesticide continues to meet the standard for registration under FIFRA. The Agency is also finalizing tolerance actions identified outside of registration review as housekeeping measures, such as removing expired tolerances from the Code of Federal Register (CFR). The pesticide tolerances and active ingredients addressed in this rulemaking are identified and discussed in detail in Unit III. of this document.

DATES: This rule is effective on February 27, 2026. Objections and requests for hearings must be received on or before April 28, 2026 and must be filed in accordance with the instructions provided in 40 CFR part 178 (see also Unit I.D. of this document).

ADDRESSES: The docket for this action, identified by docket identification (ID) number EPA-HQ-OPP-2017-0418, is available through https://www.regulations.gov. Additional information about dockets generally, along with instructions for visiting the docket in person, is available at https://www.epa.gov/dockets.

FOR FURTHER INFORMATION CONTACT: Robert Little, Pesticide Re-Evaluation Division (E305-05), Office of Pesticide Programs, Environmental Protection Agency, 109 T.W. Alexander Drive, Research Triangle Park, NC 27711; telephone number: (919) 541-5667; email address: little.robert@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document might apply to them:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT.

B. What action is the Agency taking?

EPA is finalizing several tolerance actions that the Agency proposed in the Federal Registers of February 5, 2019 (84 FR 1691) (FRL-9970-24) (Proposed Rule) and August 8, 2025 (90 FR 38426) (FRL-6704-02) (Supplemental Notice). EPA previously determined these tolerance actions were necessary or appropriate during registration review of the pesticide active ingredients identified in Unit III. of this final rule. The Agency also identified tolerance actions outside of registration review as housekeeping measures. The tolerance actions for each pesticide active ingredient are described in detail in Unit III. of the Proposed Rule, and for the active ingredient maleic hydrazide, also in the Supplemental Notice.

The Agency did not receive any public comments on the Proposed Rule. The Agency received two comments on the Supplemental Notice from two contributors. The public comments did not result in changes to the regulatory text of this final rulemaking. For a detailed summary of the comments received and Agency responses, see Unit II.

C. What is EPA's authority for taking this action?

FFDCA section 408(e), 21 U.S.C. 346a(e), authorizes EPA to establish, modify, or revoke tolerances or exemptions from the requirement of a tolerance on its own initiative. After providing a 60-day public comment period, EPA may finalize the rule. EPA provided a 60-day comment period on the Proposed Rule and 30-day comment period on the Supplemental Notice and is now finalizing the rule.

FFDCA section 408(b)(2)(A)(i) allows EPA to establish a tolerance (the legal limit for a pesticide chemical residue in or on a food) only if EPA determines that the tolerance is “safe.” FFDCA section 408(b)(2)(A)(ii) defines “safe” to mean that “there is a reasonable certainty that no harm will result from aggregate exposure to the pesticide chemical residue, including all anticipated dietary exposures and all other exposures for which there is reliable information.” This includes exposure through drinking water and in residential settings but does not include occupational exposure. FFDCA section 408(b)(2)(C) requires EPA to give special consideration to exposure of infants and children to the pesticide chemical residue in establishing a tolerance and to “ensure that there is a reasonable certainty that no harm will result to infants and children from aggregate exposure to the pesticide chemical residue . . .”

D. How can I file an objection or hearing request?

Under FFDCA section 408(g), 21 U.S.C. 346a(g), any person may file an objection to any aspect of this regulation and may also request a hearing on those objections. If you fail to file an objection to the final rule within the time period specified in the final rule, you will have waived the right to raise any issues resolved in the final rule. You must file your objection or request a hearing on this regulation in accordance with the instructions provided in 40 CFR part 178. To ensure proper receipt by EPA, you must identify the chemical-specific docket ID number as provided in Unit III. in the subject line on the first page of your submission. In the event a chemical-specific docket ID is not provided, you should use the docket ID EPA-HQ-OPP-2017-0418, followed by the chemical name. All objections and requests for a hearing must be in writing and must be received by the Hearing Clerk on or before April 28, 2026.

The EPA's Office of Administrative Law Judges (OALJ), in which the Hearing Clerk is housed, urges parties to file and serve documents by electronic means only, notwithstanding any other particular requirements set forth in other procedural rules governing those proceedings. See “Revised Order Urging Electronic Filing and Service,” dated June 22, 2023, which can be found at https://www.epa.gov/system/files/documents/2023-06/2023-06-22%20-%20revised%20order%20urging%20electronic%20filing%20and%20service.pdf. Although the EPA's regulations require submission via U.S. Mail or hand delivery, the EPA intends to treat submissions filed via electronic means as properly filed submissions; therefore, the EPA believes the preference for submission via electronic means will not be prejudicial. When submitting documents to the OALJ electronically, a person should utilize the OALJ e-filing system at https://yosemite.epa.gov/oa/eab/eab-alj_upload.nsf.

II. Background

In the Proposed Rule and Supplemental Notice, EPA proposed several tolerance actions that the Agency previously determined were necessary or appropriate during registration review of the pesticide active ingredients identified in Unit III. The Agency also proposed housekeeping measures, such as removing expired tolerances for these pesticides. This final rule serves to implement the previously proposed changes, except for certain actions that have already been finalized through other rulemakings, as described in Unit III.

A. Public Comments Received and EPA's Responses

During the public comment period for the Proposed Rule, which closed on April 8, 2019, EPA received no comments. During the public comment period for the Supplemental Notice, which closed on September 8, 2025, EPA received two comments, which did not result in any changes to the actions being finalized. The following is a summary of the comments received and the Agency's responses to those comments.

Comment: An anonymous public comment recommended prohibiting the production and use of chemicals with potential carcinogenicity.

EPA's Response: The Agency acknowledges the commenter's concern and notes that this final rule serves to implement tolerance actions that have undergone a safety determination as specified in Unit II.B. of this final rule. For the actions and tolerance levels in this final rule, the Agency has found no risk of concern for carcinogenicity, and the actions are supported by the registration review process and human health risk assessments. The Agency's consideration is documented in the pesticide-specific registration review documents, located in each chemical docket at https://www.regulations.gov. EPA has determined that the tolerance actions finalized herein are safe, i.e., there is a reasonable certainty that no harm will result to the general population, or specifically to infants and children, from exposure to the pesticide active ingredients identified and discussed in Unit III. of this final rule, and that adequate enforcement methodology is available. The commenter has not provided information indicating that these safety determinations cannot be supported.

Comment: An anonymous public comment opposed the proposed exemption from the requirement of a tolerance for maleic hydrazide. According to the commenter, removing commodity-specific tolerances would eliminate oversight and weaken enforcement of pesticide residue limits. The commenter also claimed the data used for the risk assessment is outdated and fails to fully consider cumulative or long-term exposure, especially to infants and children. The commenter also expressed concern for exposure to hydrazine as a potential carcinogen. Lastly, the commenter expressed their dissatisfaction with the length of the comment period for the Supplemental Notice.

EPA's Response: FFDCA 408(c), 21 U.S.C. 346a(c), authorizes EPA to establish a tolerance exemption for residues of a pesticide chemical in or on food when it determines that the exemption meets the safety standard imposed by the statute. 40 CFR 180.900 further provides that a tolerance exemption shall be granted when it appears that the total quantity of the pesticide chemical in or on all raw agricultural commodities for which it is useful under conditions of use currently prevailing or proposed will involve no hazard to human health. In support of the registration review of maleic hydrazide, EPA conducted a qualitative human health risk assessment, Maleic Hydrazide, and its Potassium Salt: Qualitative Risk Assessment for Registration Review and Screen of the Hydrazine Impurity dated June 18, 2014 (“Maleic Hydrazide Risk Assessment”), which is available in docket ID EPA-HQ-OPP-2009-0387. The Agency found that maleic hydrazide has low toxicity and identified no toxicological endpoints for human health risk assessment. As such, the Agency concluded that it would be appropriate to revoke the existing tolerances for residues of maleic hydrazide on specific commodities and instead establish an exemption from the requirement of a tolerance. The Agency also conducted a quantitative screening-level cancer assessment of hydrazine, an impurity which is present in maleic hydrazide technical products with a limit of 15 parts per million (ppm). As part of registration review, the Agency determined that the 15 ppm limit is adequate to protect against cancer risk from the currently registered uses of maleic hydrazide, and that any significant increases in currently registered uses or new uses of maleic hydrazide may need additional exposure data to reassess hydrazine in maleic hydrazide technical products. There have been no such changes to the registered uses of maleic hydrazide since the Maleic Hydrazide Risk Assessment.

As discussed in Unit III. of the Supplemental Notice and this final rule, based on the supporting registration review documents, EPA has determined that the exemption from the requirement of a tolerance is safe, i.e., there is a reasonable certainty that no harm will result to the general population, or specifically to infants and children, from exposure to maleic hydrazide residues. The commenter has not provided specific information indicating that this safety determination cannot be supported.

With respect to the commenter's concern regarding the shorter 30-day public comment period on the Supplemental Notice, the Agency articulated its rationale in Unit I.C. of the Supplemental Notice, including that the Proposed Rule had a 60-day public comment period that did not result in any comments received; the Supplemental Notice requested comment only on a discrete modification to a proposed tolerance action for a single pesticide; and a shorter 30-day public comment period would be in the public interest because it would allow the Agency to move forward sooner with issuing a final rule. Additionally, the Agency did not receive any requests for an extension of the public comment period on the Supplemental Notice.

B. EPA's Safety Determination

EPA has reviewed the available scientific data and other relevant information on toxicity and exposure of the individual chemicals represented in this rulemaking. The Agency has published risk assessments detailing the risks from aggregate exposure, including to infants and children, for each of the pesticides represented herein for which EPA determined tolerance actions were necessary or appropriate as part of registration review. The chemical-specific toxicity and exposure analyses, which support the safety determinations contained in Unit III., can be found in the human health risk assessment documents and related registration review decision documents, which are available in the public docket that has been opened for each pesticide, as noted in Unit III.

C. Analytical Enforcement Methodology

Adequate enforcement methodology as described in the supporting documents is available to enforce the tolerance expressions for the pesticide active ingredients identified in Unit III.

D. Conclusion

After considering all available information, EPA has determined it is appropriate, based on the underlying safety assessments, to finalize the tolerance actions identified in this rulemaking.

III. Final Tolerance Actions

EPA is finalizing the tolerance actions identified in this unit. All tolerance values expressed in the regulatory text of this rule, modified or otherwise, reflect current Organization of Economic Cooperation and Development (OECD) rounding class practice.

A. 40 CFR 180.175; Maleic Hydrazide; Case 0381 (Docket ID No. EPA-HQ-OPP-2009-0387)

EPA is finalizing its proposal to revoke all tolerances for residues of maleic hydrazide and to remove 40 CFR 180.175 in its entirety. The Agency is also finalizing its proposal, as described in the Supplemental Notice, to establish an exemption from the requirement of a tolerance for residues of maleic hydrazide when used as a plant growth regulator or herbicide under the newly designated 40 CFR 180.1349.

EPA concludes there is a reasonable certainty that no harm will result to the general population, or specifically to infants and children, from aggregate exposure to maleic hydrazide residues. Therefore, EPA has determined that the exemption from the requirement of a tolerance for residues of maleic hydrazide is safe and an enforcement method is not necessary to enforce the tolerance exemption.

B. 40 CFR 180.182; Endosulfan

EPA is finalizing its proposal to remove the tolerances for endosulfan, which have all expired.

C. 40 CFR 180.298; Methidathion; Case 0034 (Docket ID No. EPA-HQ-OPP-2008-0723)

EPA is finalizing its proposal to remove the tolerances for methidathion, which have all expired.

D. 40 CFR 180.316; Pyrazon

EPA is finalizing its proposal to revoke all tolerances for residues of pyrazon. As outlined in the Proposed Rule, there are no remaining U.S. registrations for use of pyrazon on food commodities, and the pyrazon registrant notified EPA of a need for the pyrazon tolerances for import purposes through December 31, 2017. Since this date has passed, the Agency believes these tolerances are no longer needed and that existing stocks in the United States are exhausted. However, to ensure sufficient time has passed for treated commodities to clear the channels of trade, EPA is establishing an expiration date of August 26, 2026 for these tolerances, for import purposes.

Since all tolerances for residues of pyrazon will remain in the CFR and will be revoked only after passage of the expiration date, the Agency is incorporating OECD rounding class practices by modifying tolerance values to remove trailing zeros.

E. 40 CFR 180.361; Pendimethalin

EPA is finalizing its proposal to remove the tolerances for residues of pendimethalin in or on “Bermuda grass, forage” and “Bermuda grass, hay”, which have expired.

F. 40 CFR 180.430; Fenoxaprop-Ethyl; Case 7209 (Docket ID No. EPA-HQ-OPP-2007-0437)

EPA is finalizing its proposal to revoke the tolerance for residues of fenoxaprop-ethyl in or on “Peanut, hulls”. The Agency no longer considers peanut hulls to be a significant livestock feed item; therefore, the tolerance is no longer needed. EPA is establishing an expiration date of August 26, 2026 for this tolerance.

EPA is finalizing its proposal to modify the tolerance for soybean by revising the commodity definition from “Soybean” to “Soybean, seed” to be consistent with the Agency's commodity vocabulary.

EPA is finalizing its proposal to remove the tolerances for “Grass, forage” and “Grass, hay”, which have expired.

EPA is not finalizing its proposal to adjust the rounding of the existing tolerance value for residues in or on “Barley, straw” due to the Agency's 2019 adoption of the OECD rounding class practice.

EPA concludes there is a reasonable certainty that no harm will result to the general population, or specifically to infants and children, from aggregate exposure to fenoxaprop-ethyl residues. Therefore, EPA has determined that the tolerance changes for residues of fenoxaprop-ethyl are safe and adequate enforcement methodology is available.

G. 40 CFR 180.463; Quinclorac; Case 7222 (Docket ID No. EPA-HQ-OPP-2007-1135)

EPA is finalizing its proposal to revoke the tolerance for residues of quinclorac in or on “Grain, aspirated fractions”. EPA is establishing an expiration date of August 26, 2026 for this tolerance.

EPA is finalizing its proposal to decrease the tolerances for residues of quinclorac in or on “Poultry, meat byproducts” from 0.1 to 0.05 ppm; “Hog, fat” from 0.7 to 0.05 ppm; and “Hog, meat byproducts” from 1.5 to 0.05 ppm. The decrease in tolerances for these livestock commodities is a result of submitted data and the recalculated dietary burdens for livestock. The data support the current limit of quantitation (LOQ) tolerance of 0.05 ppm for these commodities. EPA is establishing an expiration date of August 26, 2026 for these tolerances.

EPA is finalizing its proposal to add a footnote for “Barley, grain” to indicate there are no U.S. registrations for this use.

EPA is finalizing its proposal to remove the tolerance for “Cranberry”, which has expired.

EPA is not finalizing its proposal to adjust the rounding of the existing tolerance value for residues in or on “Cattle, fat”; “Goat, fat”; “Horse, fat”; and “Sheep, fat”; for “Rhubarb”; “Wheat, grain”; and “Wheat, hay”; and for “Wheat, straw”. Tolerance levels in the proposed rule included trailing zeroes. The values being finalized will not include these trailing zeroes due to the Agency's 2019 adoption of the OECD rounding class practice.

EPA concludes there is a reasonable certainty that no harm will result to the general population, or specifically to infants and children, from aggregate exposure to quinclorac residues. Therefore, EPA has determined that the tolerance changes for residues of quinclorac are safe and adequate enforcement methodology is available.

H. 40 CFR 180.476; Triflumizole; Case 7003 (Docket ID No. EPA-HQ-OPP-2006-0115)

EPA is finalizing its proposal to modify the commodity definition from “Cilantro, leaves” to “Cilantro, fresh leaves” to be consistent with the Agency's commodity vocabulary.

EPA concludes there is a reasonable certainty that no harm will result to the general population, or specifically to infants and children, from aggregate exposure to triflumizole residues. Therefore, EPA has determined that the tolerance change for residues of triflumizole is safe and adequate enforcement methodology is available.

I. 40 CFR 180.500; Imazapyr; Case 3078 (Docket ID No. EPA-HQ-OPP-2014-0200)

EPA is finalizing its proposal to modify the tolerances for residues of imazapyr in or on “Cattle, kidney”; “Goat, kidney”; Horse, kidney”; and “Sheep, kidney” from 0.20 to 0.3 ppm. Although the Agency proposed to increase the tolerances to 0.30 ppm, EPA is finalizing the tolerances at 0.3 ppm consistent with the Agency's 2019 adoption of the OECD rounding class practice.

EPA is not finalizing its proposal to adjust the rounding of the existing tolerance value for residues in or on “Lentil”. The tolerance level in the proposed rule included trailing a zero. The value being finalized will not include this trailing zero due to the Agency's 2019 adoption of the OECD rounding class practice.

EPA concludes there is a reasonable certainty that no harm will result to the general population, or specifically to infants and children, from aggregate exposure to imazapyr residues. Therefore, EPA has determined that the tolerance changes for residues of imazapyr are safe and adequate enforcement methodology is available.

J. 40 CFR 180.566; Fenpyroximate

EPA is not finalizing its proposal to remove the expired tolerance for residues of fenpyroximate in or on “Honey” in this rule, because this action was separately finalized on June 18, 2020 (85 FR 36755) (FRL-10009-14).

K. 40 CFR 180.582; Pyraclostrobin

EPA is not finalizing its proposal to remove the expired tolerance for residues of pyraclostrobin in or on “Endive, Belgium” in this rule, because this action was separately finalized on August 21, 2023 (88 FR 56773) (FRL-10953-01).

L. 40 CFR 180.589; Boscalid

EPA is finalizing its proposal to remove the tolerance for residues of boscalid in or on “Endive, Belgian”, which has expired.

M. 40 CFR 180.595; Flufenpyr-Ethyl; Case 7262 (Docket ID No. EPA-HQ-OPP-2014-0768)

EPA is finalizing its proposal to revoke all tolerances for residues of flufenpyr-ethyl. These tolerances are no longer needed as there are no U.S. registrations for use of flufenpyr-ethyl on food commodities, and EPA received no comments indicating the need to retain the tolerances for import purposes. EPA is establishing an expiration date of August 26, 2026 for these tolerances.

N. 40 CFR 180.601; Cyazofamid

EPA is not finalizing its proposal to remove the expired tolerance for residues of cyazofamid in or on “Basil, dried” in this rule, because this action was separately finalized on March 18, 2020 (85 FR 15387) (FRL-10005-85).

O. 40 CFR 180.607; Spiromesifen

EPA is finalizing its proposal to remove the tolerances for residues of spiromesifen in or on “Soybean, forage”; “Soybean, hay”; and “Soybean, seed”, which have all expired.

P. 40 CFR 180.637; Mandipropamid

The Agency is finalizing its proposal to remove the tolerance for “Basil, dried”, which has expired.

IV. Effective and Expiration Date(s)

These tolerance actions are effective on the date of publication of the final rule in the Federal Register. For actions in the final rule that lower or revoke existing tolerances, EPA has set an expiration date for the existing tolerance of six months after the date of publication of the final rule in the Federal Register, to allow a reasonable interval for producers in exporting members of the World Trade Organization's (WTO) Sanitary and Phytosanitary (SPS) Measures Agreement to adapt to the requirements.

V. Statutory and Executive Order Reviews

Additional information about these statutes and Executive Orders can be found at https://www.epa.gov/regulations/and-executive-orders.

A. Executive Order 12866: Regulatory Planning and Review

This action is exempt from review under Executive Order 12866 (58 FR 51735, October 4, 1993), because it establishes or modifies a pesticide tolerance or a tolerance exemption under FFDCA section 408. This exemption also applies to tolerance revocations for which extraordinary circumstances do not exist. As such, this exemption applies to the tolerance revocations in this final rule because the Agency knows of no extraordinary circumstances that warrant reconsideration of this exemption for those tolerance revocations.

B. Executive Order 14192: Unleashing Prosperity Through Deregulation

Executive Order 14192 (90 FR 9065, February 6, 2025) does not apply because actions that establish a tolerance under FFDCA section 408 are exempted from review under Executive Order 12866.

C. Paperwork Reduction Act (PRA)

This action does not impose an information collection burden under the PRA 44 U.S.C. 3501 et seq., because it does not contain any information collection activities.

D. Regulatory Flexibility Act (RFA)

I certify that this action will not have a significant economic impact on a substantial number of small entities under the RFA, 5 U.S.C. 601 et seq. In making this determination, EPA concludes that the impact of concern for this action is any significant adverse economic impact on small entities and that the Agency is certifying that this action will not have a significant economic impact on a substantial number of small entities because the action has no net burden on small entities subject to this rulemaking. As discussed in the Final Rule, this determination takes into account several EPA analyses of potential small entity impact for tolerance actions. EPA did not receive any comments about the Agency's determination for this rulemaking.

E. Unfunded Mandates Reform Act (UMRA)

This action does not contain an unfunded mandate of $100 million or more (in 1995 dollars and adjusted annually for inflation) as described in UMRA, 2 U.S.C. 1531-1538, and does not significantly or uniquely affect small governments. The action imposes no enforceable duty on any State, local or Tribal governments or the private sector.

F. Executive Order 13132: Federalism

This action does not have federalism implications as specified in Executive Order 13132 (64 FR 43255, August 10, 1999), because it will not have substantial direct effects on the States, on the relationship between the National Government and the States, or on the distribution of power and responsibilities among the various levels of government.

G. Executive Order 13175: Consultation and Coordination With Indian Tribal Governments

This action does not have Tribal implications as specified in Executive Order 13175 (65 FR 67249, November 9, 2000), because it will not have substantial direct effects on Tribal governments, on the relationship between the Federal government and the Indian Tribes, or on the distribution of power and responsibilities between the Federal Government and Indian Tribes.

H. Executive Order 13045: Protection of Children From Environmental Health Risks and Safety Risks

This action is not subject to Executive Order 13045 (62 FR 19885, April 23, 1997) because it is not a significant regulatory action under section 3(f)(1) of Executive Order 12866 (See Unit V.A.), and because EPA does not believe the environmental health or safety risks addressed by this action present a disproportionate risk to children.

However, EPA's 2021 Policy on Children's Health applies to this action. This rule finalizes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents, located in each chemical docket at https://www.regulations.gov.

I. Executive Order 13211: Actions Concerning Regulations That Significantly Affect Energy Supply, Distribution or Use

This action is not subject to Executive Order 13211 (66 FR 28355) (May 22, 2001) because it is not a significant regulatory action under Executive Order 12866.

J. National Technology Transfer Advancement Act (NTTAA)

This action does not involve technical standards that would require Agency consideration under NTTAA section 12(d), 15 U.S.C. 272.

K. Congressional Review Act (CRA)

This action is subject to the CRA, 5 U.S.C. 801 et seq., and EPA will submit a rule report to each House of the Congress and to the Comptroller General of the United States. This action does not meet the criteria set forth in 5 U.S.C. 804(2).

List of Subjects in 40 CFR Part 180

Environmental protection, Administrative practice and procedure, Agricultural commodities, Pesticides and pests, Reporting and recordkeeping requirements.

Dated: February 20, 2026.
Edward Messina,
Director, Office of Pesticide Programs.

For the reasons set forth in the preamble, EPA is amending 40 CFR chapter I as follows:

PART 180—TOLERANCES AND EXEMPTIONS FOR PESTICIDE CHEMICAL RESIDUES IN FOOD

1. The authority citation for part 180 continues to read as follows:

Authority: 21 U.S.C. 321(q), 346a and 371.

§ 180.175 [Removed]

2. Remove § 180.175.

§ 180.182 [Removed]

3. Remove § 180.182.

§ 180.298 [Removed]

4. Remove § 180.298.

5. Revise § 180.316 to read as follows:

§ 180.316 Pyrazon; tolerances for residues.

(a) General. Tolerances are established for combined residues of the herbicide pyrazon (5-amino-4-chloro-2-phenyl-3(2H)-pyridazinone) and its metabolites (calculated as pyrazon) in or on the commodities in Table 1 to paragraph (a).

Table 1 to Paragraph (a)
Commodity | Parts per million
Beet, garden, roots ¹ | 0.9
Beet, garden, tops ¹ | 7
Beet, sugar, molasses ¹ | 1.5
Beet, sugar, roots ¹ | 0.2
Beet, sugar, tops ¹ | 3
Cattle, fat ¹ | 0.1
Cattle, liver ¹ | 0.15
Cattle, meat ¹ | 0.1
Cattle, meat byproducts, except liver ¹ | 0.1
Goat, fat ¹ | 0.1
Goat, liver ¹ | 0.15
Goat, meat ¹ | 0.1
Goat, meat byproducts, except liver ¹ | 0.1
Horse, fat ¹ | 0.1
Horse, liver ¹ | 0.15
Horse, meat ¹ | 0.1
Horse, meat byproducts, except liver ¹ | 0.1
Milk ¹ | 0.02
Sheep, fat ¹ | 0.1
Sheep, liver ¹ | 0.15
Sheep, meat ¹ | 0.1
Sheep, meat byproducts, except liver ¹ | 0.1
¹ There are no U.S. registrations. This tolerance expires on August 26, 2026.

(b) [Reserved]

(c) [Reserved]

(d) Indirect or inadvertent residues. Tolerances are established for combined residues of the herbicide pyrazon, 5-amino-4-chloro-2-phenyl-3(2H)-pyridazinone, and its metabolites (calculated as pyrazon), in or on the commodities in Table 2 to paragraph (d).

Table 2 to Paragraph (d)
Commodity | Parts per million
Corn, field, forage ¹ | 0.5
Corn, field, stover ¹ | 0.5
Soybean, forage ¹ | 0.5
Soybean, hay ¹ | 0.5
Wheat, forage ¹ | 0.3
Wheat, hay ¹ | 0.2
Wheat, straw ¹ | 0.1
¹ There are no U.S. registrations. This tolerance expires on August 26, 2026.

§ 180.361 [Amended]

6. Amend § 180.361 by:

a. Designating the table in paragraph (a)(2) as “Table 2 to paragraph (a)(2)”; and

b. Removing and reserving paragraph (b).

7. Amend § 180.430 by:

a. Designating the table in paragraph (a) as “Table 1 to paragraph (a)”;

b. In newly designated table 1:

i. Revising the entry for “Peanut, hulls”;

ii. Removing the entry “Soybean”;

iii. Adding the entry “Soybean, seed”;

c. Removing and reserving paragraph (b); and

d. Designating the table in paragraph (c) as “Table 2 to paragraph (c)”.

The revisions and additions read as follows:

§ 180.430 Fenoxaprop-ethyl; tolerances for residues.

(a) * * *

Table 1 to Paragraph (a)
Commodity | Parts per million
* * * * *
Peanut, hulls ¹ | 0.05
* * * * *
Soybean, seed | 0.05
* * * * *
¹ This tolerance expires on August 26, 2026.

* * * * *

8. Amend § 180.463 by:

a. Revising table 1 to paragraph (a)(1);

b. Designating the table in paragraph (a)(2) as “Table 2 to paragraph (a)(2)”; and

c. Removing and reserving paragraph (b).

The revisions and additions read as follows:

§ 180.463 Quinclorac; tolerances for residues.

(a)

(1) * * *

Table 1 to Paragraph (a)(1)
Commodity | Parts per million
Asparagus | 0.08
Barley, grain ¹ | 2
Berry, low growing, except strawberry, subgroup 13-07H | 1.5
Bushberry subgroup 13-07B | 0.08
Caneberry subgroup 13-07A | 0.08
Cattle, fat | 0.7
Cattle, meat | 0.05
Cattle, meat byproducts | 1.5
Egg | 0.05
Goat, fat | 0.7
Goat, meat | 0.05
Goat, meat byproducts | 1.5
Grain, aspirated fractions ² | 1200
Grass, forage | 150
Grass, hay | 130
Hog, fat ² | 0.7
Hog, fat | 0.05
Hog, meat | 0.05
Hog, meat byproducts ² | 1.5
Hog, meat byproducts | 0.05
Horse, fat | 0.7
Horse, meat | 0.05
Horse, meat byproducts | 1.5
Milk | 0.05
Poultry, fat | 0.05
Poultry, meat | 0.05
Poultry, meat byproducts ² | 0.1
Poultry, meat byproducts | 0.05
Rhubarb | 0.5
Rice, bran | 30
Rice, grain | 10
Sheep, fat | 0.7
Sheep, meat | 0.05
Sheep, meat byproducts | 1.5
Sorghum, grain, forage | 3
Sorghum, grain, grain | 6
Sorghum, grain, stover | 1
Wheat, forage | 1
Wheat, germ | 0.75
Wheat, grain | 0.5
Wheat, hay | 0.5
Wheat, straw | 0.1
¹ There are no U.S. registrations.
² This tolerance expires on August 26, 2026.

* * * * *

9. Amend § 180.476 by:

a. Designating the table in paragraph (a)(1) as “Table 1 to paragraph (a)(1)”;

b. In newly designated table 1:

i. Removing the entry “Cilantro, leaves”;

ii. Adding the entry “Cilantro, fresh leaves”; and

b. designating the table in paragraph (a)(2) as “Table 2 to paragraph (a)(2.

The revisions and additions read as follows:

§ 180.476 Triflumizole; tolerances for residues.

(a) * * *

(1) * * *

Table 1 to Paragraph (a)(1)
Commodity | Parts per million
* * * * *
Cilantro, fresh leaves | 35
* * * * *

* * * * *

10. In § 180.500 in paragraph (a) amend table 1 by revising the entries for “Cattle, kidney”; “Goat, kidney”; Horse, kidney”; and “Sheep, kidney” to read as follows:

§ 180.500 Imazapyr; tolerances for residues.

(a) * * *

Table 1 to Paragraph (a)
Commodity | Parts per million
* * * * *
Cattle, kidney | 0.3
* * * * *
Goat, kidney | 0.3
* * * * *
Horse, kidney | 0.3
* * * * *
Sheep, kidney | 0.3
* * * * *

* * * * *

§ 180.589 [Amended]

11. Amend § 180.589 by:

a. Designating the table in paragraph (a)(1) as “Table 1 to paragraph (a)(1);

b. Designating the table in paragraph (a)(2) as “Table 2 to paragraph (a)(2)”;

c. Removing and reserving paragraph (b); and

d. Designating the table in paragraph (d) as “Table 3 to paragraph (d)”.

12. Amend § 180.595 by revising paragraph (a) to read as follows:

§ 180.595 Flufenpyr-ethyl; tolerances for residues.

(a) General. (1) Tolerances are established for residues of the herbicide, flufenpyr-ethyl; acetic acid, [2-chloro-4-fluoro-5-[5-methyl-6-oxo-4-(trifluoromethyl)-1-(6H)-pyridazinyl]-phenoxy]-ethyl ester], in or on the commodities in Table 1 to paragraph (a)(1).

Table 1 to Paragraph (a)(1)
Commodity | Parts per million
Corn, field, grain ¹ | 0.01
Soybean, seed ¹ | 0.01
Sugarcane, cane ¹ | 0.01
¹ This tolerance expires on August 26, 2026.

(2) Tolerances are established for residues of the herbicide flufenpyr-ethyl; acetic acid, [2-chloro-4-fluoro-5-[5-methyl-6-oxo-4-(trifluoromethyl)-1-(6H)-pyridazinyl]-phenoxy]-ethyl ester], and its metabolite, S-3153 acid-4-OH; [2-chloro-4-hydroxy-5-[5-methyl-6- oxo-4-(trifluoromethyl)-1-(6H)-pyridazinyl]-phenoxy]-acetic acid, free and conjugated, in or on the commodities in Table 2 to paragraph (a)(2).

Table 2 to Paragraph (a)(2)
Commodity | Parts per million
Corn, field, forage ¹ | 0.05
Corn, field, stover ¹ | 0.05
¹ This tolerance expires on August 26, 2026.

* * * * *

§ 180.607 [Amended]

13. Amend § 180.607 by:

a. Designating the table in paragraph (a)(2) as “Table 2 to paragraph (a)(2)”;

b. Removing and reserving paragraph (b); and

c. Designating the table in paragraph (d) as “Table 3 to paragraph (d)”.

§ 180.637 [Amended].

14. Amend § 180.637 by removing and reserving paragraph (b).

15. Add § 180.1349 to Subpart D.

The addition reads as follows:

§ 180.1349 Maleic hydrazide; exemption from the requirement of a tolerance.

An exemption from the requirement of a tolerance is established for residues of the pesticide maleic hydrazide, including its metabolites and degradates, when used as a plant growth regulator or herbicide.

[FR Doc. 2026-03942 Filed 2-26-26; 8:45 am]

BILLING CODE 6560-50-P